DEPARTMENT OF THE INTERIOR

National Park Service

National Register of Historic Places; Notification of Pending Nominations

Nominations for the following properties being considered for listing in the National Register were received by the National Park Service before September 22, 2001. Pursuant to section 60.13 of 36 CFR part 60 written comments concerning the significance of these properties under the National Register criteria for evaluation may be forwarded to the National Register, National Park Service, 1849 C St. NW., NC400, Washington, DC 20240. Written comments should be submitted by November 9, 2001.

Carol D. Shull,
Keeper of the National Register of Historic Places.

ARIZONA

Maricopa County

Cavness, William Edward, House, 606 N. 4th Ave., Phoenix, 01001191

ARKANSAS

Bradley County

Blankinship Motor Company Building, (Arkansas Highway History and Architecture MPS) 120 E. Cypress St., Warren, 01001190

CALIFORNIA

Los Angeles County

Congregation Talmud Torah of Los Angeles, 247 N. Breed St., Los Angeles, 01001192

Sacramento County

McClatchy, C.K., Senior High School, 3066 Freeport Blvd., Sacramento, 01001193

COLORADO

Morgan County

Central Platoon School, 411 Clayton St., Brush, 01001194

FLORIDA

Palm Beach County

Boca Raton Fire Engine No. 1, 100 S. Ocean Blvd., Boca Raton, 01001195

LOUISIANA

Ascension Parish

Jacob House, LA 22, near I-10, Sorrento, 01001196

MARYLAND

Carroll County

Biggs, William and Catherine, Farm, 8212 Sixes Bridge Rd., Detour, 01001197

MASSACHUSETTS

Middlesex County

St. Paul's Parish Church, 26 Washington St., Malden, 01001199

Suffolk County

Dorchester Heights Historic District, Roughly a one block area surrounding Telegraph Hill, Dorchester, 01001198

MISSISSIPPI

Hinds County

Illinois Central Railroad Depot, 102 Railroad Ave., Terry, 01001200

NEW JERSEY

Bergen County

Bogert—Wilkens Factory Site and the Sandy Beach Swim Club, Address Restricted, Oakland, 01001201

SOUTH CAROLINA

York County

Sharon Downtown Historic District, York St. and Woodlawn Ave., Sharon, 01001202

SOUTH DAKOTA

Hanson County

Saint Peter's Grotto, 24245 Joe St., Farmer, 01001203

WASHINGTON

King County

SCHOONER MARTHA, 1010 Valley St., Suite 100, Seattle, 01001205

Spokane County

Fairmont Hotel, (Single Room Occupancy Hotels in Central Business District of Spokane MPS) 315 W. Riverside Ave., 314 W. Sprague Ave., Spokane, 01001204

WEST VIRGINIA

Jefferson County

St. George's Chapel, N. side VA 51, about 2 mi. W. of Charles Town, Charles Town, 01001189

[FR Doc. 01-26892 Filed 10-24-01; 8:45 am]

BILLING CODE 4310-70-P